DEPARTMENT OF TRANSPORTATION

National Highway Traffic Safety Administration

Reports, Forms, and Recordkeeping Requirements; Agency Information Collection Activity: Under OMB Review

AGENCY: National Highway Traffic Safety Administration, DOT.

ACTION: Notice.

SUMMARY: In compliance with the Paperwork Reduction Act of 1995 (44 U.S.C. 3501 et seq.), this notice announces that the Information Collection Request (ICR) abstracted below will be forwarded to the Office of Management and Budget (OMB) for review and comment. The ICR describes the nature of the information collection and the expected burden. The Federal Register Notice with a 60-day comment period was published on February 4, 2008 (73 FR 6556-6558). No comments on this notice were received.

DATES: Comments must be submitted on or before 30 days from the date of publication.

ADDRESSES: Send comments, within 30 days, to the Office of Information and Regulatory Affairs, Office of Management and Budget, 725 17th Street, NW., Washington, DC 20503, Attention NHTSA Desk Officer.

FOR FURTHER INFORMATION CONTACT: Keith D. Williams at the National Highway Traffic Safety Administration, Enforcement and Justice Services Division (NTI-122), 202-366-0543, 1200 New Jersey Ave., SE., W44-231, Washington, DC 20590.

SUPPLEMENTARY INFORMATION:

National Highway Traffic Safety Administration

Title: Demonstration of Speed Management Programs; Including Automated and Traditional Enforcement.

OMB Number: 2127—NEW.

Type of Request: Collection of information.

Abstract: The National Highway Traffic Safety Administration (NHTSA) proposes to conduct a series of telephone surveys that will examine the effectiveness of a speed management research and demonstration program in the city of Tucson, Arizona. As part of the program, surveys will be administered pre and post implementation of the countermeasure treatment program to measure awareness of the program in both Tucson and an as yet to be selected comparison community/ies in the State of Arizona. The pretreatment telephone surveys would be administered during the fall-winter 2008/2009 time period and the post-treatment survey 24 months afterward. The National Highway Traffic Safety Administration was established to reduce the mounting number of deaths, injuries, and economic losses resulting from motor vehicle crashes on the Nation's highways. As part of this statutory mandate, NHTSA is authorized to conduct research as a foundation for the development of motor vehicle standards and traffic safety programs. The speed demonstration project requires NHTSA to measure whether these initiatives were effective. The telephone surveys are instrumental in that measurement. The telephone surveys will be administered to a randomly selected sample of 400 persons pre and post treatment in the demonstration and comparison areas to persons age 18 and older. An essential part of this evaluation effort is to compare baseline and post-intervention measures of attitudes and intervention awareness to determine if the interventions were associated with changes on those indices.

Affected Public: Randomly selected members of the general public in telephone households.

Estimated Total Annual Burden: 266.67 hours (1,600 interviews averaging 10 minutes each).

Comments Are Invited On: Whether the proposed collection of information is necessary or the proper performance of the functions of the Department, including whether the information will have practical utility; the accuracy of the Department's estimate of the burden of the proposed information collection; ways to enhance the quality, utility and clarity of the information to be collected; and ways to minimize the burden of the collection of information on respondents, including the use of automated collection techniques or other forms of information technology. A Comment to OMB is most effective if OMB receives it within 30 days of publication.

Authority: 44 U.S.C. 3506(c)(2)(A).

Dated: August 4, 2008.
Jeffrey Michael,
Acting Associate Administrator, Research and Program Development.

[FR Doc. E8-18300 Filed 8-7-08; 8:45 am]

BILLING CODE 4910-59-P